DEPARTMENT OF TRANSPORTATION

Federal Aviation Administration

[Docket No. FAA-2020-1052]

Agency Information Collection Activities: Requests for Comments; Clearance of Renewed Approval of Information Collection: Reporting of Information Using Special Airworthiness Information Bulletin

AGENCY: Federal Aviation Administration (FAA), DOT.

ACTION: Notice and request for comments.

SUMMARY: In accordance with the Paperwork Reduction Act of 1995, FAA invites public comments about our intention to request the Office of Management and Budget (OMB) approval to renew an information collection. The collection involves a voluntary request for information on a specific safety concern. The information to be collected will be used to help the FAA in an ongoing investigation to determine the cause of a specific condition, or whether the condition is likely to exist or develop on other aircraft, aircraft engines, propellers, or appliances of the same type design.

DATES: Written comments should be submitted by January 5, 2021.

ADDRESSES: Please send written comments:

By Electronic Docket: https://www.regulations.gov (Enter docket number into search field)

By mail: Stephen Kocmoud, 10101 Hillwood Parkway, Fort Worth, TX 76177-1524

By fax: 817-222-5961

FOR FURTHER INFORMATION CONTACT: Stephen Kocmoud by email at: stephen.m.kocmoud@faa.gov; phone: 817-222-5350.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0731.

Title: Reporting of Information Using Special Airworthiness Information Bulletin.

Form Numbers: None.

Type of Review: Renewal of an information collection.

Background: A special airworthiness information bulletin (SAIB) is an important tool that helps the FAA to gather information to determine whether an airworthiness directive is necessary. An SAIB alerts, educates, and make recommendations to the aviation community and individual aircraft owners and operators about ways to improve the safety of a product. It contains non-regulatory information and guidance that is advisory and may include recommended actions or inspections with a request for voluntary reporting of inspection results.

Respondents: Respondents may include mechanics, type clubs, owners and operators of aircraft.

Frequency: Information is collected as needed to acquire additional information on a specific condition.

Estimated Average Burden per Response: 5 minutes.

Estimated Total Annual Burden: 447 hours.

Issued in Washington, DC.
Joy Wolf,
Management & Program Analyst for Regulatory and Guidance Processing.

[FR Doc. 2020-24716 Filed 11-5-20; 8:45 am]

BILLING CODE 4910-13-P